DEPARTMENT OF ENERGY

Federal Energy Regulatory Commission

[Docket No. GT00-32-000]

Tennessee Gas Pipeline Company; Notice of Termination of Service

July 11, 2000.

Take notice that on June 19, 2000, Tennessee Gas Pipeline Company (Tennessee), tendered for filing a notice of its intent to terminate service to certain shippers pursuant to Article XXVIII of its General Terms and Conditions. Tennessee proposes that the termination be made effective on July 19, 2000.

Tennessee states that these shippers are part of the Service Package 8822 group of shippers that entered into a single transportation agreement on February 1, 1995, with Tennessee to receive and deliver gas to Columbia Gas Transmission Corporation under Rate Schedule FT-A. Tennessee states that after several and various attempts they have not been able to verify the creditworthiness of certain shippers and, therefore, proposes to remove them from the list of eligible shippers.

Any person desiring to protest said filing should file a protest with the Federal Energy Regulatory Commission, 888 First Street, N.E., Washington, D.C. 20426, in accordance with Section 385.211 of the Commission's Rules and Regulations. All such protests must be filed on or before July 18, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-17960 Filed 7-14-00; 8:45 am]

BILLING CODE 6717-01-M